NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 1, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671, as amended by the Antarctic Science, Tourism and Conservation Act of 1996, has developed regulations for the establishment of a permit system for various activities in Antarctica and designation of certain animals and certain geographic areas as requiring special protection. The regulations establish such a permit system to designate Antarctic Specially Protected Areas.

Application Details

1. Applicant

Permit Application: 2024-011.

Alia Khan, 516 High St. M.S. 9181 Bellingham, WA 98225.

Activity for Which Permit Is Requested

Harmful Interference. The applicant proposes to collect snow samples across the West Antarctic Peninsula region for scientific purposes. Collecting samples adjacent to high density penguin areas is critical to the study. There is the potential for slight disturbance of penguin species during sampling and installation of time lapse cameras. This permit would address the potential for harmful interference of the following species: Adelie penguin (Pygoselis adeliae), chinstrap penguin (P. antarctica), and the gentoo penguin, (P. papua). The applicant would not directly enter penguin colonies, or approach penguins within 5 meters.

Location

Antarctica Peninsula Region, Palmer Station area; Booth Island, and Petermann Island.

Dates of Permitted Activities

November 24, 2023-March 31, 2028.

Kimiko S. Bowens-Knox,
Program Analyst, Office of Polar Programs.

[FR Doc. 2023-21703 Filed 9-29-23; 8:45 am]

BILLING CODE 7555-01-P